DEPARTMENT OF COMMERCE

Bureau of Economic Analysis

Proposed Information Collection; Comment Request; Survey: Ocean Freight Revenues and Foreign Expenses of United States Carriers; Survey: U.S. Airline Operators' Foreign Revenues and Expenses

ACTION: Notice.

SUMMARY: The Department of Commerce, as part of its continuing effort to reduce paperwork and respondent burden, invites the general public and other Federal agencies to comment on proposed and/or continuing information collections, as required by the Paperwork Reduction Act of 1995.

DATES: Written comments must be submitted on or before 5 p.m. June 8, 2009.

ADDRESSES: Direct all written comments to Diana Hynek, Departmental Paperwork Clearance Officer, Department of Commerce, Room 7845, 14th and Constitution Avenue, NW., Washington, DC 20230, or via e-mail at dhynek@doc.gov.

FOR FURTHER INFORMATION CONTACT:

Requests for additional information or copies of the information collection instrument and instructions should be directed to Edward Dozier, Current Account Services Branch, Balance of Payments Division, (BE-58), Bureau of Economic Analysis, U.S. Department of Commerce, Washington, DC 20230; phone: (202) 606-9559; fax: (202) 606-5314; or via e-mail at edward.dozier@bea.gov.

SUPPLEMENTARY INFORMATION:

I. Abstract

The Bureau of Economic Analysis (BEA) is responsible for the compilation of the U.S. international transactions accounts (ITAs), which it publishes quarterly in news releases, on its Web site, and in its monthly journal, the Survey of Current Business. These accounts provide a statistical summary of all U.S. international transactions and, as such, are one of the major statistical products of BEA. They are used extensively by both government and private organizations for national and international economic policy formulation and for analytical purposes. The information collected in these surveys is used to develop the “transportation” portion of the ITAs. Potential respondents are U.S. ocean and air carriers engaged in international transportation of goods and/or passengers. The information is collected on a quarterly basis from U.S. ocean and air carriers whose total annual covered revenues or total annual covered expenses are, or are expected to be, $500,000 or more. U.S. ocean and air carriers whose total annual covered revenues and total annual covered expenses are, or are expected to be, each below $500,000 are exempt from reporting.

Without this information, an integral component of the ITAs would be omitted. No other government agency collects comprehensive quarterly data on U.S. ocean carriers' freight revenues and foreign expenses or U.S. airline operators' foreign revenues and expenses. There are no changes proposed to the form or instructions.

II. Method of Collection

The survey forms will be sent to respondents each quarter via U.S. mail; the surveys are also available from our Web site. Respondents return the surveys one of four ways: U.S. mail, electronically using BEA's electronic collection system (eFile), fax or email. Responses will be due within 50 days after the close of each calendar quarter.

III. Data

OMB Number: 0608-0011.

Form Number: BE-30 and BE-37.

Type of Review: Regular submission.

Affected Public: Businesses or other for-profit organizations.

Estimated Number of Respondents: 292.

Estimated Time per Response: 5 hours (BE-30); 4 hours (BE-37).

Estimated Total Annual Burden Hours: 1,004.

Estimated Total Annual Cost to Public: $0.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 3, 2009.
Glenna Mickelson,
Management Analyst, Office of Chief Information Officer.

[FR Doc. E9-7933 Filed 4-7-09; 8:45 am]

BILLING CODE 3510-06-P